DEPARTMENT OF HOMELAND SECURITY

Federal Emergency Management Agency

[Docket ID FEMA-2017-0002; Internal Agency Docket No. FEMA-B-1726]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations. The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 30, 2017.
Roy E. Wright,
Deputy Associate Administrator for Insurance and Mitigation, Department of Homeland Security, Federal Emergency Management Agency.

State and county | Location and case No. | Chief executive officer of community | Community map repository | Online location of letter of map revision | Effective date of modification | Community No.
Arizona:
Maricopa | City of Peoria (17-09-0311P) | The Honorable Cathy Carlat, Mayor, City of Peoria, 8401 West Monroe Street, Peoria, AZ 85345 | City Hall, 8401 West Monroe Street, Peoria, AZ 85345 | http://www.msc.fema.gov/lomc | Aug. 25, 2017 | 040050
Maricopa | City of Scottsdale (17-09-0074P) | The Honorable W.J. “Jim” Lane, Mayor, City of Scottsdale, City Hall, 3939 North Drinkwater Boulevard, Scottsdale, AZ 85251 | Scottsdale Planning Records, 7447 East Indian School Road, Suite 100, Scottsdale, AZ 85251 | http://www.msc.fema.gov/lomc | Aug. 25, 2017 | 045012
Maricopa | Unincorporated Areas of Maricopa County (16-09-2971P) | The Honorable Denny Barney, Chairman, Board of Supervisors, Maricopa County, 301 West Jefferson Street, 10th Floor, Phoenix, AZ 85003 | Flood Control District of Maricopa County, 2801 West Durango Street, Phoenix, AZ 85009 | http://www.msc.fema.gov/lomc | Sep. 1, 2017 | 040037
Pinal | Unincorporated Areas of Pinal County (16-09-2973P) | The Honorable Stephen Miller, Chairman, Board of Supervisors, Pinal County, 135 North Pinal Street, Florence, AZ 85132 | Pinal County Department of Public Works, 31 North Pinal Street, Florence, AZ 85132 | http://www.msc.fema.gov/lomc | Aug. 23, 2017 | 040077
California:
Butte | Unincorporated Areas of Butte County (17-09-0110P) | The Honorable Bill Connelly, Chairman, Board of Supervisors, Butte County, 5280 Lower Wyandotte Road, Oroville, CA 95966 | Butte County Department of Public Works, 7 County Center Drive, Oroville, CA 95965 | http://www.msc.fema.gov/lomc | Aug. 30, 2017 | 060017
Calaveras | Unincorporated Areas of Calaveras County (17-09-0086P) | The Honorable Michael C. Oliveira, Chairman, Board of Supervisors, Calaveras County, 891 Mountain Ranch Road, San Andreas, CA 95249 | Calaveras County Planning Department, 891 Mountain Ranch Road, San Andreas, CA 95249 | http://www.msc.fema.gov/lomc | Aug. 28, 2017 | 060633
Illinois:
Will | Village of Plainfield (15-05-7793P) | The Honorable Michael P. Collins, Village President, Village of Plainfield, 24401 West Lockport Street, Plainfield, IL 60544 | Village Hall, 24401 West Lockport Street, Plainfield, IL 60544 | http://www.msc.fema.gov/lomc | Aug. 18, 2017 | 170771
Iowa:
Ringgold | Unincorporated Areas of Ringgold County (17-07-0216P) | The Honorable Paul Dykstra, Chairperson, County Board of Supervisors, County Courthouse, 109 West Madison Street, Mount Ayr, IA 50854 | Ringgold County Courthouse, 109 West Madison Street, Mount Ayr, IA 50854 | http://www.msc.fema.gov/lomc | Aug. 18, 2017 | 190903
Kansas:
Riley | City of Ogden (16-07-1213P) | The Honorable Robert R. Pence, Jr., Mayor, City of Ogden, 222 Riley Avenue, Ogden, KS 66517 | City Hall, 222 Riley Avenue, Ogden, KS 66517 | http://www.msc.fema.gov/lomc | Aug. 10, 2017 | 200301
Riley | Unincorporated Areas of Riley County (16-07-1213P) | Mr. Ron Wells, Chair, Riley County Commissioners, 3609 Anderson Avenue, Manhattan, KS 66503 | Riley County Office Building, 110 Courthouse Plaza, Manhattan, KS 66502 | http://www.msc.fema.gov/lomc | Aug. 10, 2017 | 200298
Michigan:
Kalamazoo | City of Kalamazoo (16-05-5168P) | The Honorable Bobby J. Hopewell, Mayor, City of Kalamazoo, 241 West South Street, Kalamazoo, MI 49007 | City Hall, 241 West South Street, Kalamazoo, MI 49007 | http://www.msc.fema.gov/lomc | Aug. 22, 2017 | 260315
Missouri:
St. Louis | City of Des Peres (17-07-0868P) | The Honorable Richard G. Lahr, Mayor, City of Des Peres, 12325 Manchester Road, Des Peres, MO 63131 | City Hall, 12325 Manchester Road, Des Peres, MO 63131 | http://www.msc.fema.gov/lomc | Sep. 5, 2017 | 290347
New Jersey:
Passaic | City of Paterson (17-02-0940P) | The Honorable Jose Torres, Mayor, City of Paterson, City Hall, 155 Market Street, Paterson, NJ 07505 | City Hall, 155 Market Street, Paterson, NJ 07505 | http://www.msc.fema.gov/lomc | Aug. 25, 2017 | 340404
Oregon:
Multnomah | City of Portland (17-10-0646X) | The Honorable Charlie Hales, Mayor, City of Portland, 1221 Southwest 4th Avenue, Room 340, Portland, OR 97204 | Bureau of Environmental Services, 1221 Southwest 4th Avenue, Room 230, Portland, OR 97204 | http://www.msc.fema.gov/lomc | Aug. 24, 2017 | 410183
Texas:
Dallas | City of Dallas (17-06-0526P) | The Honorable Michael S. Rawlings, Mayor, City of Dallas, 1500 Marilla Street, Suite 5EN, Dallas, TX 75201 | Department of Public Works, 320 East Jefferson Boulevard, Room 321, Dallas, TX 75203 | http://www.msc.fema.gov/lomc | Aug. 25, 2017 | 480171
Wisconsin:
Brown | Village of Bellevue (16-05-4339P) | The Honorable Steve Soukup, President, Village Board, 2828 Allouez Avenue, Bellevue, WI 54311 | Village Hall, 2828 Allouez Avenue, Bellevue, WI 54311 | http://www.msc.fema.gov/lomc | Sep. 1, 2017 | 550627

[FR Doc. 2017-13564 Filed 6-28-17; 8:45 am]

BILLING CODE 9110-12-P